COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete products and services from the Procurement List that were previously furnished by nonprofit agencies employing persons who are blind or have other severe disabilities.

DATES: Effective July 10, 2016

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 4/22/2016 (81 FR 23682), 5/6/2016 (81 FR 27419-27420), and 5/20/2016 (81 FR 31917-31918), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8415-01-580-0038—Cover, Helmet, Advanced Combat, Multi Camouflage, Large/X-Large

8415-01-580-0064—Cover, Helmet, Advanced Combat, Multi Camouflage, Small/Medium

8415-01-580-0074—Cover, Helmet, Advanced Combat, Multi Camouflage, XX-Large

Mandatory Source(s) of Supply:

Mount Rogers Community Services Board, Wytheville, VA

Lions Volunteer Blind Industries, Inc., Morristown, TN

Contracting Activities:

Army Contracting Command—Aberdeen Proving Ground, Natick Contracting Division, Natick, MA

Defense Logistics Agency Troop Support, Philadelphia, PA

NSN(s)—Product Name(s):

7510-01-463-1985—Jumbo Refill, Ballpoint Pen “Aristocrat”

7510-01-463-1987—Jumbo Refill, Ballpoint Pen “Aristocrat”

7510-01-463-1988—Jumbo Refill, Ballpoint Pen “Aristocrat”

7510-01-463-1989—Jumbo Refill, Ballpoint Pen “Aristocrat”

7520-01-446-4500—Pen, Retractable, Cushion Grip, Exec. “Aristocrat”

7520-01-446-4503—Pen, Retractable, Cushion Grip, Exec. “Aristocrat”

7520-01-446-4504—Pen, Retractable, Cushion Grip, Exec. “Aristocrat”

7520-01-446-4505—Pen, Retractable, Cushion Grip, Exec. “Aristocrat”

Mandatory Source(s) of Supply: Industries of the Blind, Inc., Greensboro, NC

Contracting Activity: General Services Administration, New York, NY

NSN(s)—Product Name(s): 7530-01-555-2906—Paper, Tabulating Machine

Mandatory Source(s) of Supply: Tarrant County Association for the Blind, Fort Worth, TX

Contracting Activity: General Services Administration, New York, NY

NSN(s)—Product Name(s): 7530-00-800-0996—Paper, Tabulating Machine

Mandatory Source(s) of Supply:

The Lighthouse for the Blind, St. Louis, MO

Tarrant County Association for the Blind, Fort Worth, TX

Contracting Activity: General Services Administration, New York, NY

Services

Service Type: Document Destruction Service

Mandatory for: Internal Revenue Service: St. Paul Headquarters, Minneapolis, MN

Mandatory Source(s) of Supply: AccessAbility, Inc., Minneapolis, MN

Contracting Activity: Dept. of the Treasury, Washington, DC

Service Type: Janitorial/Custodial Service

Service Mandatory For: Middle River Depot, 2800 Eastern Blvd., Baltimore, MD

Mandatory Source(s) of Supply: The Chimes, Inc., Baltimore, MD

Contracting Activity: GSA/PBS/R03 Regional Contracts Support Services Section, Philadelphia, PA

Barry S. Lineback,
Director, Business Operations.

[FR Doc. 2016-13769 Filed 6-9-16; 8:45 am]

BILLING CODE 6353-01-P